NATIONAL SCIENCE FOUNDATION

Agency Information Collection Activities: Proposed Collection; Comment Request

AGENCY: National Science Foundation.

ACTION: Notice and request for comments.

SUMMARY: Under the paperwork Reduction Act of 1995, Pub. L. 104-13 (44 U.S.C. 3501 et seq.), and as part of its continuing effort to reduce paperwork and respondent burden, the National science Foundation (NSF) is inviting the general public or other Federal agencies to comment on this proposed continuing information collection. The National Science Foundation (NSF) will publish periodic summaries of the proposed projects.

Comments: Comments are invited on (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by October 24, 2005, to be assured consideration. Comments received after that date will be considered to the extent practicable. Send comments to address below.

FOR FURTHER INFORMATION CONTACT: Ms. Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., eastern time, Monday through Friday.

SUPPLEMENTARY INFORMATION: Title of Collection: 2006 Survey of Doctorate Recipients.

OMB Approval Number: 3145-0020.

Expiration Date of Approval: February 28, 2005.

Type of Request: Intent to seek approval to reinstate an information collection for three years.

1. Abstract. The Survey of Doctorate Recipients (SDR) has been conducted biennially since 1973. The 2006 SDR will consist of a sample of individuals under the age 76 who have earned a research doctoral degree in a science, engineering or health field from an U.S. institution. The purpose of this longitudinal study is to provide national estimates on the doctoral science and engineering workforce and changes in employment, education and demographic characteristics. The study is one of three components of the Scientists and Engineers Statistical Data System (SESTAT), which produces national estimates of the size and characteristics of the nation's science and engineering population.

The National Science Foundation Act of 1950, as subsequently amended, includes a statutory charge to “* * * provide a central clearinghouse for the collection, interpretation, and analysis of data on scientific and engineering resources, and to provide a source of information for policy formulation by other agencies of the Federal Government.” The SDR is designed to comply with these mandates by providing information on the supply and utilization of nation's doctoral level scientists and engineers. Collected data will be used to produce estimates of the characteristics of these individuals. They will also provide necessary input into the SESTAT data system, which produces national estimates of the size and characteristics of the country's science and engineering population. The Foundation uses this information to prepare congressionally mandated reports such as Women, Minorities and Persons with Disabilities in Science and Engineering and Science and Engineering Indicators. The NSF publishes statistics from the survey in many reports, but primarily in the biennial series, Characteristics of Doctoral Scientists and Engineers in the United States. A public release file of collected data, designed to protect respondent confidentiality, also will be made available to researchers on CD-ROM and on the World Wide Web.

The National Opinion Research Center at the University of Chicago will conduct the study for NSF. Data are obtained by mail questionnaire, computer-assisted telephone interviews and web survey beginning April 2006. The survey will be collected in conformance with the Privacy Act of 1974 and the individual's response to the survey is voluntary. NSF will insure that all information collected will be taken strictly confidential and will be used only for research of statistical purposes, analyzing data, and preparing scientific reports and articles.

2. Expected Respondents. A statistical sample of approximately 43,000 individuals with U.S. earned doctorates in science, engineering and health will be contacted in 2006. The total response rate in 2003 was 82%.

NSF is also considering sampling 1,500 additional U.S. doctorates that receives their degrees in the 2001, 2002, 2003, 2004, and 2005 academic years, who are non U.S. citizens, and indicated they planned on leaving the country after they received their doctorate.

3. Estimate of Burden. The amount of time to complete the questionnaire may vary depending on an individual's circumstances; however, on average it will take approximately 25 minutes to complete the survey. We estimate that the total annual burden will be 18,000 hours during the year. If the additional 1,500 respondents who had plans to leave the United States are included in the sample, that will increase the burden an additional 700 hours to a total of 18,700 hours.

Dated: August 17, 2005.
Suzanne H. Plimpton,
Reports Clearance Officer, National Science Foundation.

[FR Doc. 05-16643 Filed 8-22-05; 8:45 am]

BILLING CODE 7555-01-M